FEDERAL MARITIME COMMISSION

Sunshine Act Meeting

AGENCY HOLDING THE MEETING: Federal Maritime Commission

TIME AND DATE: May 15, 2013; 10:00 a.m.

PLACE: 800 North Capitol Street NW., First Floor Hearing Room, Washington, DC

STATUS: The meeting will be held in Open Session.

MATTERS TO BE CONSIDERED: 1. Staff Briefing on Agency Initial Draft FY 2014-2018 Strategic Plan

2. Licensing, Financial Responsibility Requirements, and General Duties for Ocean Transportation Intermediaries

CONTACT PERSON FOR MORE INFORMATION: Karen V. Gregory, Secretary, (202) 523-5725.

Karen V. Gregory,
Secretary.

[FR Doc. 2013-11219 Filed 5-8-13; 4:15 pm]

BILLING CODE 6730-01-P